DEPARTMENT OF AGRICULTURE

Grain Inspection, Packers and Stockyards Administration

Opportunity for Designation in the Amarillo, TX; Cairo, IL; State of Louisiana; State of North Carolina; Belmond, IA; State of New Jersey; and State of New York Areas; Request for Comments on the Official Agencies Servicing These Areas

AGENCY: Grain Inspection, Packers and Stockyards Administration, USDA.

ACTION: Notice.

SUMMARY: The designations of the official agencies listed below will end on September 30, 2010. We are asking persons or governmental agencies interested in providing official services in the areas presently served by these agencies to submit an application for designation. In addition, we are asking for comments on the quality of services provided by the following designated agencies: Amarillo Grain Exchange, Inc. (Amarillo); Cairo Grain Inspection Agency, Inc. (Cairo); Louisiana Department of Agriculture and Forestry (Louisiana); North Carolina Department of Agriculture (North Carolina); and D. R. Schaal Agency, Inc. (Schaal).

DATES: Applications and comments must be received by April 30, 2010.

ADDRESSES: Submit applications and comments concerning this notice using any of the following methods:

• Internet: Apply using FGISonline (https://fgis.gipsa.usda.gov/default_home_FGIS.aspx) by clicking on the Delegations/Designations and Export Registrations (DDR) link. You will need to obtain an FGISonline customer number and USDA eAuthentication username and password prior to applying. Submit comments at http://www.regulations.gov. Instructions for submitting and reading comments are detailed on the site.

• Hand Delivery/Courier Address: William A. Ashley, Acting Review Branch Chief, Compliance Division, GIPSA, USDA, Room 1647-S, 1400 Independence Avenue, SW., Washington, DC 20250.

• Mail: William A. Ashley, Acting Review Branch Chief, Compliance Division, GIPSA, USDA, STOP 3604, 1400 Independence Avenue, SW., Washington, DC 20250-3604.

• Fax: William A. Ashley, 202-690-2755.

• E-mail: William.A.Ashley@usda.gov.

Read Applications and Comments: All applications and comments will be available for public inspection at the office above during regular business hours (7 CFR 1.27(c)).

FOR FURTHER INFORMATION CONTACT: William A. Ashley, 202-720-8262 or William.A.Ashley@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation

Amarillo

Pursuant to Section 7(f)(2) of the Act, the following geographic areas, in the States of Oklahoma and Texas are assigned to this official agency:

• Armstrong (north of Prairie Dog Town Fork of the Red River), Carson, Childress, Collingsworth, Dallam, Deaf Smith (east of U.S. Route 385), Donley, Gray, Hansford, Hall (east of U.S. Route 287), Harley, Hemphill, Hutchinson, Lipscomb, Moore, Ochiltree, Oldham, Potter, Randall (north of Prairie Dog Town Fork of the Red River, State Route 217 and FM 1062), Roberts, Sherman, and Wheeler Counties in Texas.

• Beaver, Cimarron, and Texas Counties in Oklahoma.

Cairo

Pursuant to Section 7(f)(2) of the Act, the following geographic areas, in the States of Illinois, Kentucky, and Tennessee are assigned to this official agency:

• Alexander, Jackson County (south of State Route 3, State Route 149, and State Route 13; west of U.S. Route 51), Johnson, Hardin, Massac, Pope, Pulaski, Randolph County (south of State Route 150 and south of State Route 3), and Union Counties in Illinois.

• Ballard, Calloway, Carlisle, Fulton, Graves, Hickman, Livingston, Lyon, Marshall, McCracken, and Trigg Counties in Kentucky.

• Benton, Dickson, Henry, Houston, Humphreys, Lake, Montgomery, Obion, Stewart, and Weakley Counties in Tennessee.

The Cargill, Inc., grain elevator in Tiptonville, Lake County, Tennessee, which is located within Cairo's assigned areas, is currently serviced, and will continue to be serviced by Midsouth Grain Inspection Service.

Louisiana

Pursuant to Section 7(f)(2) of the Act, the entire State of Louisiana, except those export port locations within the State which are serviced by GIPSA, is assigned to this official agency.

North Carolina

Pursuant to Section 7(f)(2) of the Act, the entire State of North Carolina, except those export port locations within the State which are serviced by GIPSA, is assigned to this official agency.

Schaal

Pursuant to Section 7(f)(2) of the Act, the following geographic areas, in the States of Iowa, Minnesota, New Jersey, and New York are assigned to this official agency:

• Butler (north of County Road C23 and County Road C33, east of County Road T47, and west of State Highway 188/County Road T64), Cerro Gordo, Floyd (west of County Road T64 and north of County Road B60), Franklin (north of County Road C55, County Road C25, and County Road C23 and west of U.S. Route 65, County Road S41, and County Road S56), Hancock, Kossuth (east of U.S. Route 169), Mitchell, Winnebago, Worth, Wright (north of State Route 3 and Interstate 35 and east of State Route 17 and U.S. Route 65) Counties in Iowa.

The following grain elevators, located within Schaal's assigned geographic areas in the State of Iowa, are not serviced by Schaal: (1) Agvantage F.S., Chapin, Franklin County; (2) Five Star Coop, Rockwell, Cerro Gordo County (both serviced by Central Iowa Grain Inspection Service, Inc.); and (3) West Bend Elevator Co., Algona, Kossuth County; Stateline Coop, Burt, Kossuth County; Gold-Eagle, Goldfield, Wright County; and North Central Coop, Holmes, Wright County (serviced by Sioux City Inspection and Weighing Service Company).

• Faribault, Freeborn, and Mower Counties in Minnesota.

• The entire States of New Jersey and New York, except those export port locations within the States which are serviced by GIPSA.

Opportunity for Designation

Interested persons or governmental agencies may apply for designation to provide official services in the geographic areas specified above under the provisions of section 7(f) of the USGSA and 7 CFR 800.196(d). Designation in the specified geographic areas is for the period beginning October 1, 2010, and ending September 30, 2013. To apply for designation or for more information, contact William A. Ashley at the address listed above or visit GIPSA's Web site at http://www.gipsa.usda.gov.

Request for Comments

We are publishing this notice to provide interested persons the opportunity to comment on the quality of services provided by the Amarillo, Cairo, Louisiana, North Carolina, and Schaal official agencies. In the designation process, we are particularly interested in receiving comments citing reasons and pertinent data supporting or objecting to the designation of the applicants. Submit all comments to William A. Ashley at the above address or at http://www.regulations.gov.

We consider applications, comments, and other available information when determining which applicant will be designated.

Authority: 7 U.S.C. 71-87k.

J. Dudley Butler,
Administrator, Grain Inspection, Packers and Stockyards Administration.

[FR Doc. 2010-7122 Filed 3-30-10; 8:45 am]

BILLING CODE 3410-KD-P